SOCIAL SECURITY ADMINISTRATION

Listening Session Regarding Improving the Accessibility of Government Information

AGENCY: U.S. Council of CIOs, SSA.

ACTION: Notice of meeting.

On behalf of the Accessibility Committee of the U.S. Council of CIOs 29 U.S.C. 794d.

SUMMARY: This notice announces a listening session being conducted in response to a memo dated July 19, 2010, from the Office of Management and Budget (OMB) on “Improving the Accessibility of Government Information.” Section 508 of the Rehabilitation Act (29 U.S.C. 794d) requires Federal agencies to buy and use electronic and information technology (EIT) that is accessible. The July memo directs agencies to take stronger steps toward improving the acquisition and implementation of accessible technology. In order to better understand the needs of diverse communities and provide better solutions, the U.S. Council of CIOs, in collaboration with the Chief Acquisition Officers Council, the GSA Office of Governmentwide Policy and the U.S. Access Board, is holding the second in a series of listening sessions to engage citizens and employees in expressing concerns and proposing ideas. Persons with disabilities, their advocates, technology companies, government employees and other interested parties are invited to participate.

DATES: The listening session will be held on Tuesday, December 14, 2010, from 2 p.m. to 5 p.m. Eastern Standard Time (EST).

Persons wishing to address the panel at the listening session can pre-register by contacting Emily Koo at (410) 965-4472 or Innovate.Accessibility@ssa.gov. Pre-registrants will be given priority in addressing the panel in Washington, DC. Registration will also be available in person in Washington, DC on the afternoon of the listening session.

Meeting Location: The listening session will be held at the Marvin Center at George Washington University, 800 21st St., Washington, DC, in the Grand Ballroom.

Accommodations: The listening session will have sign language interpreters; CART (real time captioning) services, Assistive Listening Devices (ALDs), microphones and materials will be available in Braille, large print and electronic formats. The Marvin Center is wheelchair accessible. Anyone needing other accommodations should include a specific request when registering in advance.

FOR FURTHER INFORMATION CONTACT: mailto: Emily Koo at (410) 965-4472 or Innovate.Accessibility@ssa.gov.

SUPPLEMENTARY INFORMATION: In 1998, Congress amended the Rehabilitation Act of 1973 to require Federal agencies to make their electronic and information technology (EIT) accessible to people with disabilities. Inaccessible technology interferes with an ability to obtain and use information quickly and easily. Section 508 was enacted to eliminate barriers in information technology, open new opportunities for people with disabilities, and encourage development of technologies that will help achieve these goals. The law applies to all Federal agencies when they develop, procure, maintain, or use electronic and information technology. Under Section 508 (29 U.S.C. `794 d), agencies must give disabled employees and members of the public access to information that is comparable to access available to others.

Effective implementation of Section 508 is an essential element of President Obama's principles of open government, requiring that all government and data be accessible to all citizens. In order for the goal of open government to be meaningful for persons with disabilities, technology must also be accessible, including digital content. In July 2010, the OMB took steps to assure that the Federal government's progress in implementing Section 508 is stronger and achieves results more quickly.

Section 508 requires the GSA to provide technical assistance to agencies on Section 508 implementation. GSA has created a number of tools, available at http://www.Section508.gov, to help agencies to develop accessible requirements, test the acceptance process, and share lessons learned and best practices. For example:

• The BuyAccessible Wizard, http://www.buyaccessible.gov, helps build compliant requirements and solicitations;

• The Quick Links site, https://app.buyaccessible.gov/baw/KwikLinksMain.jsp, provides pre-packaged Section 508 solicitation documents;

• The BuyAccessible Products and Services Directory, https://app.buyaccessible.gov/DataCenter/ provides a registry of companies and accessibility information about their offerings; and

• The Section 508 blog http://buyaccessible.net/blog/ provides a venue where stakeholders may share ideas and success stories, or engage in conversations on improving accessibility.

The OMB has directed that several actions be taken to improve 508 performance:

• By Mid-January 2011, the GSA Office of Governmentwide Policy (OGP) will provide updated guidance on making government EIT accessible. This guidance will build upon existing resources to address challenges, increase oversight, and reduce costs associated with acquiring and managing EIT solutions that are not accessible.

• By Mid-January 2011, the GSA OGP will update its general Section 508 training to offer refreshed continuous learning modules that can be used by contracting officers, program/project managers (especially those managing IT programs), and contracting officer technical representatives (COTRs) as they fulfill their Federal Acquisition Certification requirements.

• In 2010, the GSA OGP and the Department of Justice (DOJ) will issue a survey to allow agencies to assess their implementation of Section 508, including accessibility of Web sites and other technology used by the agencies. This information will be used by the DOJ in preparing its next assessment of agency compliance as required by the Rehabilitation Act. The CIOC Accessibility Committee will also use this information to identify best practices and lessons learned.

• In the spring of 2011, the DOJ will issue a progress report on Federal agency compliance with Section 508, the first since 2004. Going forward, DOJ will meet its obligation to issue a report biennially.

• Beginning in FY 2011, the GSA OGP will begin providing OMB a quarterly summary report containing results of Section 508 reviews of a sample of solicitations posted on FedBizOpps.gov. GSA will provide the agencies a summary of the sampling results to facilitate sharing of best practices and successes, and to address common challenges.

This listening session will focus on what other steps the Federal government can take to increase the accessibility and usability of government information and data for persons with disabilities. Input is sought on the following questions:

• What can technology do to improve things for people with disabilities?

• What can the Federal government do to use technology better or in new ways?

• What can the Federal government do to make technology more accessible?

• What emerging technologies are being used by the Federal government that you are left out of?

• What technologies should the Federal government use that would enhance your interactions with the Federal government?

• What are State and local governments doing that the Federal government should follow?

• What can the Federal government do to influence technology accessibility?

• From the perspective of Federal employees, how has Section 508 improved your ability to do your job? How can implementation of Section 508 be improved?

• From the perspective of vendors, how can implementation of Section 508 be improved?

• What could the Federal government ask that would allow vendors to better show that their products meet accessibility needs?

• What improvements could be made to VPATs?

• Do you believe the IT industry would benefit from a professional certification or credential that denotes a company's expertise in accessibility? How could that be implemented and managed; and should the government play a role in making that happen?

• Feedback from the listening session will be used by, and shared across, agencies to improve accessibility and usability.

Karen Palm,
Associate Chief Information Officer.

[FR Doc. 2010-30273 Filed 12-1-10; 8:45 am]

BILLING CODE P